DEPARTMENT OF COMMERCE

National Oceanic and Atmospheric Administration

42nd Meeting of the U.S. Coral Reef Task Force; Public Meeting

AGENCY: Coral Reef Conservation Program (CRCP), Office for Coastal Management (OCM), National Ocean Service (NOS), National Oceanic and Atmospheric Administration (NOAA), Department of Commerce (DOC).

ACTION: Notice of public meeting and request for public comment.

SUMMARY: The National Oceanic and Atmospheric Administration (NOAA) and the U.S. Department of the Interior (DOI) will hold a public meeting of the 42nd U.S. Coral Reef Task Force (USCRTF).

DATES: The public meeting will be held Thursday, September 12, 2019 from 8:30am to 5:00pm with an opportunity to provide public comments. Written comments must be received on or before August 30, 2019. For the specific date, time, and location of the public meetings, see SUPPLEMENTARY INFORMATION.

ADDRESSES: You may submit comments to the USCRTF by any of the following methods:

Public Meeting and Oral Comments: A public meeting will be held in Koror, Palau. For the specific location, see SUPPLEMENTARY INFORMATION.

Written Comments: Please direct written comments to Jennifer Koss, NOAA, USCRTF Steering Committee Point of Contact, NOAA Coral Reef Conservation Program, 1305 East-West Highway, NOS/OCM, Silver Spring, MD 20910 or via email to Jennifer.Koss@noaa.gov. Comments that the USCRTF Steering Committee Point of Contact receives are considered part of the public record and may be publicly accessible. Any personal identifying information (e.g., name, address) submitted voluntarily by the sender may also be publicly accessible. NOAA will accept anonymous comments.

FOR FURTHER INFORMATION CONTACT: Jennifer Koss, NOAA USCRTF Steering Committee Point of Contact, NOAA Coral Reef Conservation Program, 1305 East-West Highway, NOS/OCM, Silver Spring, MD 20910 at (301) 533-0777 or Liza Johnson, USCRTF Executive Secretary, U.S. Department of the Interior, MS-3530-MIB, 1849 C Street NW, Washington, DC 20240 at (202) 208-5004 or visit the USCRTF website at http://www.coralreef.gov.

SUPPLEMENTARY INFORMATION: The meeting provides a forum for coordinated planning and action among federal agencies, state and territorial governments, and nongovernmental partners. Registration is requested for all events associated with the meeting. This meeting has time allotted for public comment. If you are making oral comments please also submit a written copy of your comments. A written summary of the meeting will be posted on the USCRTF website within two months of occurrence. For information about the meeting, registering and submitting public comments, go to http://www.coralreef.gov.

Commenters may address the meeting, the role of the USCRTF, or general coral reef conservation issues. Before including your address, phone number, email address, or other personally identifiable information in your comments, you should be aware that your entire comment, including personally identifiable information, may be made publicly available at any time. While you can ask us in your comment to withhold your personally identifiable information from public review, we cannot guarantee that we will be able to do so.

Established by Presidential Executive Order 13089 in 1998, the USCRTF mission is to lead, coordinate and strengthen U.S. government actions to better preserve and protect coral reef ecosystems. Co-chaired by the Departments of Commerce and the Interior, USCRTF members include leaders of 12 federal agencies, seven U.S. states and territories and three freely associated states.

You may participate and submit oral comments at the public meeting. The Fall public meeting occurs annually in a USCRTF jurisdiction with the 2019 Fall meeting in Koror, Palau, and is scheduled as follows:

Date: Thursday, September 12, 2019.

Time: 8:30am to 5:00pm, local time.

Location: Ngarachamayong Cultural Center, Main Street, Koror, Palau 96940.

Written comments must be received on or before Friday, August 30, 2019.

Dated: August 21, 2019.
Nicole LeBoeuf,
Acting Assistant Administrator, National Ocean Service, National Oceanic and Atmospheric Administration.

[FR Doc. 2019-18619 Filed 8-28-19; 8:45 am]

BILLING CODE 3510-08-P